FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 27, 2019.

A. Federal Reserve Bank of Minneapolis (Mark A. Rauzi, Vice President), 90 Hennepin Avenue, Minneapolis, Minnesota 55480-0291:

1. Lindsey Bosshard Irrevocable Trust of 2018 and the Alexandra Bosshard Irrevocable Trust of 2018, both of La Crosse, Wisconsin, with Andrew R. Bosshard serving as trustee; to join the Bosshard family shareholder group and thereby acquire voting shares of Bosshard Banco, Ltd, La Crosse, Wisconsin and thereby indirectly acquire First National Bank of Bangor, Bangor, Wisconsin, and Intercity State Bank, Schofield, Wisconsin.

Board of Governors of the Federal Reserve System, February 7, 2019.
Yao-Chin Chao,
Assistant Secretary of the Board.

[FR Doc. 2019-02023 Filed 2-11-19; 8:45 am]

BILLING CODE P